DEPARTMENT OF HOMELAND SECURITY

Federal Emergency Management Agency

44 CFR Part 65

[Docket ID FEMA-2008-0020; Internal Agency Docket No. FEMA-B-1070]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the FEMA Assistant Administrator for Mitigation reconsider the changes. The modified BFEs may be changed during the 90-day period.

ADDRESSES: The modified BFEs for each community are available for inspection at the office of the Chief Executive Officer of each community. The respective addresses are listed in the table below.

FOR FURTHER INFORMATION CONTACT: Kevin C. Long, Engineering Management Branch, Mitigation Directorate, Federal Emergency Management Agency, 500 C Street, SW., Washington, DC 20472, (202) 646-2820.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published of sale of flood insurance in community | Chief executive officer of community | Effective date of modification | Community No.
Colorado:
Arapahoe | City of Aurora (09-08-0620P) | July 2, 2009; July 9, 2009; Aurora Sentinel | The Honorable Ed Tauer, Mayor, City of Aurora, 15151 East Alameda Parkway, Aurora, CO 80012 | June 23, 2009 | 080002
Arapahoe | City of Sheridan (09-08-0267P) | June 12, 2009; June 19, 2009; Englewood Herald | The Honorable Mary Carter, Mayor, City of Sheridan, 4101 South Federal Boulevard, Sheridan, CO 80110 | October 19, 2009 | 080018
Denver | City and County of Denver (09-08-0620P) | July 2, 2009; July 9, 2009; Denver Post | The Honorable John W. Hickenlooper, Mayor, City and County of Denver, 1437 Bannock Street, Suite 350, Denver, CO 80202 | June 23, 2009 | 080046
Florida:
Marion | City of Ocala (09-04-0503P) | June 25, 2009; July 2, 2009; Star Banner | The Honorable Randy Ewers, Mayor, City of Ocala, P.O. Box 1270, Ocala, FL 34478 | June 12, 2009 | 120330
Orange | City of Orlando (09-04-3112P) | July 9, 2009; July 16, 2009; Orlando Weekly | The Honorable Buddy Dyer, Mayor, City of Orlando, 400 South Orange Avenue, Orlando, FL 32802 | September 28, 2009 | 120186
Sumter | Unincorporated areas of Sumter County (09-04-3548P) | July 9, 2009; July 16, 2009; Sumter County Times | The Honorable Richard Hoffman, Commissioner, District 1, Sumter County Board of Commissioners, 910 North Main Street, Bushnell, FL 33513 | June 30, 2009 | 120296
Illinois:
DuPage | Village of Villa Park (08-05-4476P) | July 10, 2009; July 17, 2009; Villa Park Argus | The Honorable Joyce Stupegia, Village President, Village of Villa Park, 20 South Ardmore Avenue, Villa Park, IL 60181 | June 29, 2009 | 170217
Will | Unincorporated areas of Will County (09-05-3443P) | July 6, 2009; July 13, 2009; The Herald News | The Honorable Lawrence M. Walsh, Will County Executive, 302 North Chicago Street, Joliet, IL 60432 | November 10, 2009 | 170695
Indiana:
Elkhart | City of Elkhart (09-05-0815P) | July 3, 2009; July 10, 2009; The Elkhart Truth | The Honorable David Miller, Mayor, City of Elkhart, Municipal Building, 229 South 2nd Street, Elkhart, IN 46516 | November 9, 2009 | 180057
Elkhart | Unincorporated areas of Elkhart County (09-05-0815P) | July 3, 2009; July 10, 2009; The Elkhart Truth | The Honorable Terry Rodino, President, Elkhart County Board of Commissioners, 117 North 2nd Street, Goshen, IN 46526 | November 9, 2009 | 180056
Kansas: McPherson | City of McPherson (09-07-0243P) | July 7, 2009; July 14, 2009; McPherson Sentinel | The Honorable Thomas A. Brown, Mayor, City of McPherson, P.O. Box 1008, McPherson, KS 67460 | June 26, 2009 | 200217
Minnesota:
Anoka | City of Blaine (08-05-4922P) | March 27, 2009; April 3, 2009; Blaine-Spring Lake Park Life | The Honorable Thomas Ryan, Mayor, City of Blaine, 12147 Radisson Road Northeast, Blaine, MN 55449 | July 27, 2009 | 270007
Anoka | City of Coon Rapids (08-05-4922P) | March 27, 2009; April 3, 2009; Coon Rapids Herald | The Honorable Tim Howe, Mayor, City of Coon Rapids, 11155 Robinson Drive, Coon Rapids, MN 55433 | July 27, 2009 | 270011
Mississippi: Rankin | City of Richmond (09-04-2764P) | July 8, 2009; July 15, 2009; Rankin County News | The Honorable Shirley Hall, Mayor, City of Richland, P.O. Box 180609, Richland, MS 39218 | July 30, 2009 | 280299
Montana: Carbon | City of Red Lodge (09-08-0545P) | June 11, 2009; June 18, 2009; Carbon County News | The Honorable Betsy Scanlin, Mayor, City of Red Lodge, P.O. Box 9, Red Lodge, MT 59068 | October 16, 2009 | 300007
Ohio:
Franklin | City of Dublin (08-05-2843P) | June 17, 2009; June 24, 2009; The Dublin News | The Honorable Mary Chinnici-Zuercher, Mayor, City of Dublin, 5200 Emerald Parkway, Dublin, OH 43017 | October 22, 2009 | 390673
Hancock | Unincorporated areas of Hancock County (09-05-2984P) | June 30, 2009; July 7, 2009; The Courier | The Honorable Edward D. Ingold, Hancock County Commissioner, 322 South Main Street, Findlay, OH 45840 | November 4, 2009 | 390767
South Carolina: Lancaster | Unincorporated areas of Lancaster County (09-04-1036P) | June 8, 2009; June 15, 2009; Rock Hill Herald | The Honorable Steve Willis, County Administrator, Lancaster County, P.O. Box 1809, Lancaster, SC 29721 | October 13, 2009 | 450120
Texas:
Bexar | Unincorporated areas of Bexar County (08-06-2311P) | July 6, 2009; July 13, 2009; Daily Commercial Recorder | The Honorable Nelson W. Wolff, Bexar County Judge, Bexar County Courthouse, 100 Dolorosa Street, Suite 120, San Antonio, TX 78205 | July 30, 2009 | 480035
Collin | City of Plano (08-06-2741P) | July 3, 2009; July 10, 2009; Plano Star Courier | The Honorable Phil Dyer, Mayor, City of Plano, 1520 Avenue K, Plano, TX 75074 | November 9, 2009 | 480140
Travis | City of Austin (08-06-3046P) | May 12, 2009; May 19, 2009; Austin American Statesman | The Honorable Will Wynn, Mayor, City of Austin, P.O. Box 1088, Austin, TX 78767 | April 30, 2009 | 480624
Webb | City of Laredo (09-06-0689P) | June 11, 2009; June 18, 2009; Laredo Morning Times | The Honorable Raul G. Salinas, Mayor, City of Laredo, 1110 Houston Street, Laredo, TX 78040 | October 16, 2009 | 480651
Virginia:
Prince Edward | Town of Farmville (08-03-1396P) | July 1, 2009; July 8, 2009; Farmville Herald | The Honorable Sydnor C. Newman, Jr., Mayor, Town of Farmville, 116 North Main Street, Farmville, VA 23901 | October 3, 2009 | 510118
Independent City | City of Harrisonburg (09-03-0277P) | June 26, 2009; July 3, 2009; Daily News-Record | The Honorable Kai Degner, Mayor, City of Harrisonburg, 345 South Main Street, Harrisonburg, VA 22801 | November 2, 2009 | 510076
Independent City | City of Waynesboro (09-03-0235P) | June 8, 2009; June 15, 2009; The News Virginian | The Honorable Timothy D. Williams, Mayor, City of Waynesboro, P.O. Box 1028, Waynesboro, VA 22980 | June 29, 2009 | 515532
Wisconsin: Dane | Unincorporated areas of Dane County (08-05-5051P) | June 26, 2009; July 3, 2009; Wisconsin State Journal | The Honorable Kathleen Falk, Dane County Executive, City County Building, Room 421, 210 Martin Luther King Jr. Boulevard, Madison, WI 53703 | November 2, 2009 | 550077

(Catalog of Federal Domestic Assistance No. 97.022, “Flood Insurance.”)

Deborah S. Ingram,
Acting Deputy Assistant Administrator for Mitigation, Mitigation Directorate, Department of Homeland Security, Federal Emergency Management Agency.

[FR Doc. E9-25858 Filed 10-26-09; 8:45 am]

BILLING CODE 9110-12-P